DEPARTMENT OF HEALTH AND HUMAN SERVICES

Substance Abuse and Mental Health Services Administration

The President's New Freedom Commission on Mental Health; Notice of Meeting

Pursuant to Executive Order 13263, notice is hereby given of a meeting of the President's New Freedom Commission on Mental Health in February 2003.

The meeting will be open and will consider how to accomplish the Commission's mandate to conduct a comprehensive study of the United States mental health service delivery system and to make recommendations on improving the delivery of public and private mental health services for adults and children. The Commission meeting will receive reports from several of its subcommittees, including Medicaid, Evidence-Based Practice/Medication Issues, Consumer Issues, Cultural Competence, Housing and Homelessness, Employment and Income Support, and Children and Families.

Attendance by the public will be limited to space available. Public comments are welcome. Please communicate with the individual listed as contact below to make arrangements to comment or to request special accommodations for persons with disabilities.

Additional information and a roster of Commission members may be obtained either by accessing the Commission Web site, http://www.mentalhealthcommission.gov, or by communicating with the contact whose name and telephone number is listed below.

Committee Name: The President's New Freedom Commission on Mental Health.

Meeting Date/Time:

Open: February 4, 2003, 1 p.m. to 4 p.m.

Open: February 5, 2003, 8:30 a.m. to 4 p.m.

Open: February 6, 2003, 8:30 a.m. to 12 p.m.

Place: Crystal Gateway Marriott, 1700 Jefferson Davis Highway, Arlington, Virginia 22202.

FOR FURTHER INFORMATION CONTACT: Claire Heffernan, Executive Secretary, 5600 Fishers Lane, Parklawn Building, Room 13C-26, Rockville, MD 20857, Telephone: (301) 443-1545; Fax: (301) 480-1554, e-mail: Cheffern@samhsa.gov, Web site: http://www.mentalhealthcommission.gov.

Dated: January 13, 2003.
Toian Vaughn,
Committee Management Officer, Substance Abuse and Mental Health Services Administration.

[FR Doc. 03-1022 Filed 1-15-03; 8:45 am]

BILLING CODE 4162-20-P